DEPARTMENT OF JUSTICE

[OMB Number 1110-0076]

Agency Information Collection Activities; Proposed eCollection eComments Requested; Revision of a Currently Approved Collection; for the Law Enforcement Executive Development Seminar (LEEDS), FBI National Academy and National Executive Institute Program Questionnaires

AGENCY: Federal Bureau of Investigation, Department of Justice.

ACTION: 60-Day notice.

SUMMARY: The Department of Justice, Federal Bureau of Investigation (FBI), Training Division's Curriculum Management Section (CMS), is submitting the following information collection request to the Office of Management and Budget (OMB) for review and approval in accordance with the Paperwork Reduction Act of 1995.

DATES: The Department of Justice encourages public comment and will accept input until May 30, 2023.

FOR FURTHER INFORMATION CONTACT: Written comments/or suggestions regarding the items contained in this notice, especially the estimated public burden associated response time, should be directed to U.S. Department of Justice, Federal Bureau of Investigation, contact Denielle Johnson, Unit Chief, Evaluation and Certification Unit, Training Division, FBI Academy, email address djjohnson2@fbi.gov, and telephone number 703-632-1000. Written comments and/or suggestions can also be sent to the Office of Management and Budget, Office of Information and Regulatory Affairs, Attention Department of Justice Desk Officer, Washington, DC 20503 or sent to OIRA_submission@omb.eop.gov.

SUPPLEMENTARY INFORMATION: Written comments and suggestions from the public and affected agencies concerning the proposed collection of information are encouraged. Your comments should address one or more of the following four points:

➢ Evaluate whether the proposed collection of information is necessary for the proper performance of the functions of the Federal Bureau of Investigation, Training Division, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: FBI Education and Training for Law Enforcement Officers.

3. The agency form number, if any, and the applicable component of the Department sponsoring the collection: “There is no agency form number for this collection.” The applicable component within the Department of Justice is the Training Division.

4. Affected public who will be asked or required to respond, as well as a brief abstract: State/Local and Federal law enforcement. This collection will gather feedback from graduates to determine if the training received from the has made an impact on their agency.

5. An estimate of the total number of respondents and the amount of time estimated for an average respondent to respond: 8,250 respondents with an approximate 10 minute burden.

6. An estimate of the total public burden (in hours) associated with the collection: approximately 1,375 hours.

If additional information is required contact: John Carlson, Assistant Director, United States Department of Justice, Justice Management Division, Policy and Planning Staff, Two Constitution Square, 145 N Street NE, 3E.405A, Washington, DC 20530.

Dated: March 24, 2023.
John R. Carlson,
Department Clearance Officer for PRA, Assistant Director, U.S. Department of Justice.

[FR Doc. 2023-06470 Filed 3-28-23; 8:45 am]

BILLING CODE 4410-02-P